DEPARTMENT OF DEFENSE

Office of the Secretary

Department of Defense Military Family Readiness Council; Notice of Federal Advisory Committee Meeting

AGENCY: Under Secretary of Defense for Personnel and Readiness, Department of Defense (DoD).

ACTION: Notice of Federal Advisory Committee meeting.

SUMMARY: The DoD is publishing this notice to announce that the following Federal Advisory Committee meeting of the Department of Defense Military Family Readiness Council (MFRC) will take place.

DATES: Open to the public Tuesday, September 22, 2020, from 10 a.m. to 12 p.m.

ADDRESSES: This open meeting will be held online. The phone number for the remote access is 800-309-1256, and the participant code is 913224. This information will also be posted on the DoD MFRC website at: http://www.militaryonesource.mil/those-who-support-mfrc.

FOR FURTHER INFORMATION CONTACT: William Story, (571) 372-5345 (Voice), (571) 372-0884 (Facsimile), OSD Pentagon OUSD P-R Mailbox Family Readiness Council, osd.pentagon.ousd-p-r.mbx.family-readiness-council@mail.mil (Email). Mailing address is Office of the Deputy Assistant Secretary of Defense for Military Community and Family Policy, Office of Family Readiness Policy, 4800 Mark Center Drive, Alexandria, VA 22350-2300, Room 3G15. Website: http://www.militaryonesource.mil/those-who-support-mfrc. The most up-to-date changes to the meeting agenda can be found on the website.

SUPPLEMENTARY INFORMATION: Due to circumstances beyond the control of the Department of Defense and the Designated Federal Officer (DFO) for the Department of Defense Military Family Readiness Council, the Department of Defense Military Family Readiness Council was unable to provide public notification required by 41 CFR 102-3.150(a) concerning its meeting on September 22, 2020. Accordingly, the Advisory Committee Management Officer for the Department of Defense, pursuant to 41 CFR 102-3.150(b), waives the 15-calendar day notification requirement. This meeting is being held under the provisions of the Federal Advisory Committee Act (FACA) (5 U.S.C., Appendix), the Government in the Sunshine Act (5 U.S.C. 552b), and 41 CFR 102-3.140 and 102-3.150.

Purpose of the Meeting: This is the third meeting of the MFRC for Fiscal Year (FY) 2020. During this meeting the MFRC Members will present and vote on recommendations to the Secretary of Defense, and present and discuss Focus Areas for the MFRC meetings in FY 2021.

Agenda: Call to Order, Welcome & Opening Remarks; Administrative Items; Written Public Submissions; FY 2020 Recommendations, Discussion, and Voting; FY 2021 MFRC Focus Areas, Discussion, and Selection; Closing Remarks. Note: Exact order may vary.

Meeting Accessibility: Members of the public who are interested in hearing the MFRC meeting may call in using the remote access number 800-309-1256 and participant code 913224. Contact Frank Emery (frank.a.emery.civ@mail.mil) for access assistance.

Written Statements: Persons interested in providing a written statement for review and consideration by MFRC members attending the September 22, 2020 meeting must do so no later than close of business Thursday, September 17, 2020, through the Council mailbox (osd.pentagon.ousd-p-r.mbx.family-readiness-council@mail.mil). Written statements received after this date will be provided to Council members in preparation for the next MFRC meeting. The DFO will review all submitted written statements and provide copies to all MFRC members. Written statements become part of the MFRC's records and should not include personally identifiable information such as names of adults and children, phone numbers, addresses, social security numbers, and other contact information within the body of the written statement.

Dated: September 11, 2020.
Aaron T. Siegel,
Alternate OSD Federal Register Liaison Officer, Department of Defense.

[FR Doc. 2020-20441 Filed 9-15-20; 8:45 am]

BILLING CODE 5001-06-P